DEPARTMENT OF COMMERCE

National Oceanic and Atmospheric Administration

[RTID 0648-XA955]

South Atlantic Fishery Management Council; Public Meetings

AGENCY: National Marine Fisheries Service (NMFS), National Oceanic and Atmospheric Administration (NOAA), Commerce.

ACTION: Notice of scoping meetings.

SUMMARY: The South Atlantic Fishery Management Council (Council) will hold scoping meetings via webinar pertaining to Amendment 49 to the Fishery Management Plan for the Snapper Grouper Fishery of the South Atlantic Region (FMP). The amendment addresses catch levels and sector allocations for greater amberjack and recreational annual catch targets for the snapper grouper fishery.

DATES: The scoping meetings will be held via webinar on April 14 and 15, 2021.

ADDRESSES: Council address: South Atlantic Fishery Management Council, 4055 Faber Place Drive, Suite 201, N Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION: The scoping meetings will be conducted via webinar and accessible via the internet from the Council's website at https://safmc.net/safmc-meetings/public-hearings-scoping-meetings/. The scoping meetings will begin at 6 p.m. Registration for the webinars is required. Registration information, a copy of the scoping materials, an online public comment form and any additional information as needed will be posted on the Council's website at https://safmc.net/safmc-meetings/public-hearings-scoping-meetings/ as it becomes available.

Amendment 49 to the Snapper Grouper FMP

The Council is considering adjusting catch levels for greater amberjack in response to the most recent stock assessment for the species in the region. The stock assessment results indicated the stock is not overfished and is not undergoing overfishing. The South Atlantic Council's Scientific and Statistical Committee (SSC) has recommended new acceptable biological catch (ABC) levels based on the latest stock assessment, which incorporated updated recreational data based on NOAA Fisheries' Marine Recreational Information Program Fishing Effort Survey. Thus, the Council is considering changes to the South Atlantic greater amberjack total annual catch limit and sector allocations. The Council is also considering removal of all recreational annual catch targets for species managed under the FMP that are currently not being used in management.

During the webinar scoping meetings, Council staff will present an overview of the amendment and will be available to answer questions. Members of the public will have an opportunity to go on record to provide their comments for consideration by the Council.

Special Accommodations

These meetings are physically accessible to people with disabilities. Requests for auxiliary aids should be directed to the Council office (see ADDRESSES) 5 days prior to the meeting.

Note: The times and sequence specified in this agenda are subject to change.

Authority: 16 U.S.C. 1801 et seq.

Dated: March 24, 2021.
Tracey L. Thompson,
Acting Deputy Director, Office of Sustainable Fisheries, National Marine Fisheries Service.

[FR Doc. 2021-06446 Filed 3-26-21; 8:45 am]

BILLING CODE 3510-22-P